DEPARTMENT OF THE INTERIOR

National Park Service

[2253-665]

Notice of Inventory Completion: California Department of Parks and Recreation, Sacramento, CA

AGENCY: National Park Service, Interior.

ACTION: Notice.

SUMMARY: The California Department of Parks and Recreation has completed an inventory of human remains and associated funerary objects, in consultation with the appropriate Indian tribes, and has determined that there is a cultural affiliation between the human remains and associated funerary objects and present-day Indian tribes. Representatives of any Indian tribe that believes itself to be culturally affiliated with the human remains and associated funerary objects may contact the California Department of Parks and Recreation. Repatriation of the human remains and associated funerary objects to the Indian tribes stated below may occur if no additional claimants come forward.

DATES: Representatives of any Indian tribe that believes it has a cultural affiliation with the human remains and associated funerary objects should contact the California Department of Parks and Recreation at the address below by April 16, 2012.

ADDRESSES: Rebecca Carruthers, NAGPRA Coordinator, California Department of Parks and Recreation, 1416 9th Street, Room 902, Sacramento, CA 95814, telephone (916) 653-8893.

SUPPLEMENTARY INFORMATION: Notice is here given in accordance with the Native American Graves Protection and Repatriation Act (NAGPRA), 25 U.S.C. 3003, of the completion of an inventory of human remains and associated funerary objects under the control of the California Department of Parks and Recreation. The human remains and associated funerary objects were removed from the Morris Mound site (CA-SAC-199) in Sacramento County, CA.

This notice is published as part of the National Park Service's administrative responsibilities under NAGPRA, 25 U.S.C. 3003(d)(3). The determinations in this notice are the sole responsibility of the museum, institution or Federal agency that has control of the Native American human remains and associated funerary objects. The National Park Service is not responsible for the determinations in this notice.

Consultation

A detailed assessment of the human remains and associated funerary objects was made by the California Department of Parks and Recreation professional staff in consultation with representatives of Buena Vista Rancheria of Me-Wuk Indians of California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; and the United Auburn Indian Community of the Auburn Rancheria of California (hereafter referred to as “The Tribes”).

History and Description of the Remains

In 1950, human remains representing, at minimum, nine individuals were removed from Morris Mound (site CA-SAC-199) in Sacramento County, CA. James Sturgeon of Fair Oaks, CA, excavated the site and donated the collection to the California Department of Parks and Recreation on February 15, 1977. No known individuals were identified. The 11 associated funerary objects are 1 silicate flake scraper and 10 mammal bones.

The site was occupied during the Late Horizon Period (after A.D. 500). Archeologists believe that the Penutian-speaking Maidu and Miwok are descended from what have been identified as the Windmiller people who occupied the Central Valley of California 3,000 to 4,000 years ago. Geographic affiliation is consistent with the historically documented use of the area by the Nisenan (Southern Maidu) and the Plains Miwok. This collection is affiliated with the historic Nisenan or the Northern Sierra Miwok, based on the movement of both groups near the borders of what is now identified as their historic territories. Therefore, the professional staff of the California Department of Parks and Recreation has determined that there is a relationship of shared group identity, which can be reasonably traced between these Native American human remains and The Tribes.

Determinations Made by the California Department of Parks and Recreation

Officials of the California Department of Parks and Recreation have determined that:

• Pursuant to 25 U.S.C. 3001(9), the human remains described in this notice represent the physical remains of nine individuals of Native American ancestry.

• Pursuant to 25 U.S.C. 3001(3)(A), the 11 objects described above are reasonably believed to have been placed with or near individual human remains at the time of death or later as part of the death rite or ceremony.

• Pursuant to 25 U.S.C. 3001(2), there is a relationship of shared group identity that can be reasonably traced between the Native American human remains and associated funerary objects to The Tribes.

Additional Requestors and Disposition

Representatives of any Indian tribe that believes itself to be culturally affiliated with the human remains and associated funerary objects should contact Rebecca Carruthers, NAGPRA Coordinator, California Department of Parks and Recreation, 1416 9th Street, Room 902, telephone (916) 653-8893, before April 16, 2012. Repatriation of the human remains and associated funerary objects to The Tribes may proceed after that date if no additional claimants come forward.

The California Department of Parks and Recreation is responsible for notifying The Tribes that this notice has been published.

Dated: March 12, 2012.
Sherry Hutt,
Manager, National NAGPRA Program.

[FR Doc. 2012-6321 Filed 3-15-12; 8:45 am]

BILLING CODE 4312-50-P